JUDICIAL CONFERENCE OF THE UNITED STATES

Hearings of the Judicial Conference Advisory Committees on Rules of Bankruptcy and Civil Procedure

AGENCY: Advisory Committees on Rules of Bankruptcy and Civil Procedure, Judicial Conference of the United States.

ACTION: Notice of proposed amendments and open hearings.

SUMMARY: The Advisory Committees on Rules of Bankruptcy and Civil Procedure have proposed amendments to the following rules and forms:

Bankruptcy Rules 2002, 3002, 3007, 3012, 3015, 4003, 5005, 5009, 7001, 9006, and 9009, and Official Forms 17A, 17B, 17C, 22A-1, 22A-1Supp., 22A-2, 22B, 22C-1, 22C-2, 101, 101A, 101B, 104, 105, 106Sum., 106A/B, 106C, 106D, 106E/F, 106G, 106H, 106Dec., 107, 112, 113, 119, 121, 318, 423, and 427

Civil Rules 1, 4, 6, 16, 26, 30, 31, 33, 34, 36, 37, 55, 84, and Appendix of Forms

Public hearings are scheduled to be held on the amendments to:

• Bankruptcy Rules in Chicago, Illinois, on January 17, 2014, and in Washington, DC, on January 31, 2014;

• Civil Rules in Washington, DC, on November 7, 2013, in Phoenix, Arizona, on January 9, 2014, and in Dallas, Texas, on February 7, 2014.

Those wishing to testify should contact the Secretary at the address below in writing at least 30 days before the hearing. All written comments and suggestions with respect to the proposed amendments may be submitted on or after the opening of the period for public comment on August 15, 2013, but no later than February 15, 2014. Written comments can be submitted electronically, following the instructions provided at: http://www.uscourts.gov/RulesAndPolicies/rules/proposed-amendments.aspx. Written comments can also be submitted by mail to Secretary, Committee on Rules of Practice and Procedure of the Judicial Conference of the United States, Thurgood Marshall Federal Judiciary Building, Washington, DC 20544. In accordance with established procedures, all comments submitted are available for public inspection.

The text of the proposed rules amendments and the accompanying Committee Notes can be found at the United States Federal Courts' Web site at http://www.uscourts.gov/rulesandpolicies/rules.aspx/.

FOR FURTHER INFORMATION CONTACT: Jonathan C. Rose, Secretary, Committee on Rules of Practice and Procedure of the Judicial Conference of the United States, Thurgood Marshall Federal Judiciary Building, Washington, DC 20544, Telephone (202) 502-1820.

Dated: August 9, 2013.
Jonathan C. Rose,
Secretary, Committee on Rules of Practice and Procedure, Judicial Conference of the United States.

[FR Doc. 2013-19721 Filed 8-14-13; 8:45 am]

BILLING CODE 2210-55-P